DEPARTMENT OF HOMELAND SECURITY

Coast Guard

33 CFR Parts 100 and 165

[Docket No. USCG-2011-1026]

RIN 1625-AA08; AA00

Safety Zones; Annually Recurring Marine Events in Coast Guard Southeastern New England Captain of the Port Zone

AGENCY: Coast Guard, DHS.

ACTION: Final rule.

SUMMARY: The Coast Guard is amending special local regulations and establishing permanent safety zones in Coast Guard Southeastern New England Captain of the Port (COTP) Zone for annually recurring marine events.

DATES: This rule is effective June 21, 2012.

ADDRESSES: Comments and material received from the public, as well as documents mentioned in this preamble as being available in the docket, are part of docket USCG-2011-1026 and are available online by going to http://www.regulations.gov, inserting USCG-2011-1026 in the “Keyword” box, and then clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call Mr. Edward G. LeBlanc at Coast Guard Sector Southeastern New England, 401-435-2351. If you have questions on viewing the docket, please call Renee V. Wright, Program Manager, Docket Operations, telephone 202-366-9826.

SUPPLEMENTARY INFORMATION:

Regulatory Information

On February 3, 2012, we published a notice of proposed rulemaking (NPRM) entitled “Safety Zones; Annually Recurring Marine Events in Coast Guard Southeastern New England Captain of the Port Zone” in the Federal Register (77 FR 5463). We received no comments on the proposed rule.

Basis and Purpose

The legal basis for the rule is 33 U.S.C. 1231; 46 U.S.C. Chapter 701, 3306, 3703; 50 U.S.C. 191, 195; 33 CFR 1.05-1, 6.04-1, 6.04-6, 160.5 Public Law 107-295, 116 Stat. 2064; and Department of Homeland Security Delegation No. 0170.1, which collectively authorize the Coast Guard to define safety zones.

Many marine events are held annually on a recurring basis on or over the navigable waters within the Coast Guard Southeastern New England COTP Zone. These events include sailing regattas, powerboat races, rowboat races, parades, swim events, air shows, and fireworks displays. This rule will consistently apprise the public of recurring marine events in the Coast Guard Southeastern New England COTP Zone in a timely manner through permanent publication in Title 33 of the Code of Federal Regulations. The Table in this rule lists each annually recurring event requiring a regulated area as administered by the Coast Guard.

By establishing permanent regulations for these events, the Coast Guard eliminates the need to establish temporary rules for events that occur on an annual basis. This rule also amends local regulations for events already contained in 33 CFR Part 100 both to update event information as well as to move fireworks displays to part 165, a citation that better meets the Coast Guard's intended purpose of ensuring safety during these events.

Background

This rule removes sections 33 CFR 100.112, 100.113, 100.116, revises 33 CFR 100.114, and adds a new section, 33 CFR 165.173. The rule removes seven outdated marine events and establishes permanent regulated areas in conjunction with 24 other recurring marine events. The rule applies to each recurring marine event listed in the attached Table in the Coast Guard Southeastern New England COTP Zone. The Table provides the event name, type, and approximate safety zone dimensions as well as approximate dates, times, and locations of the events. The specific times, dates, regulated areas and enforcement period for each event will be provided through the Local Notice to Mariners, Broadcast Notice to Mariners or through a Notice of Enforcement published in the Federal Register.

Three fireworks displays include safety zones which may be enforced 365 days a year. The purpose of these 365 day safety zones is to permit sponsors the flexibility to hold similar fireworks displays at the same location on different days and for different events without the need of creating temporary final rules. These three 365 day Safety Zones can be found in section 1.0 in the Table below.

The particular size of the safety zones established for each event will be reevaluated on an annual basis in accordance with Navigational and Vessel Inspection Circular (NVIC) 07-02, Marine Safety at Firework Displays, the National Fire Protection Association Standard 1123, Code for Fireworks Displays (100-foot distance per inch of diameter of the fireworks mortars), and other pertinent regulations and publications.

Discussion of Comments and Changes

No comments were received, and no changes were made to the language contained in the NPRM.

Regulatory Analyses

We developed this rule after considering numerous statutes and executive orders related to rulemaking. Below we summarize our analyses based on 13 of these statutes or executive orders.

Executive Order 12866 and Executive Order 13563

This rule is not a significant regulatory action under section 3(f) of Executive Order 12866, Regulatory Planning and Review, as supplemented by Executive Order 13563, and does not require an assessment of potential costs and benefits under section 6(a)(3) of that Order. The Office of Management and Budget has not reviewed it under that Order.

We expect minimal additional cost impacts to the industry because this rule is not imposing fees, permits, or specialized requirements for the maritime industry to utilize this anchorage area. The effect of this rule is not significant as it only updates currently listed annually recurring events, and serves to permanently publish special local regulations and safety zones for annually recurring events that heretofore had been published on an individual case-by-case basis.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which might be small entities: Owners or operators of vessels intending to transit, fish, or anchor in the areas where the listed annually recurring events are being held.

This rule will not have a significant economic impact on a substantial number of small entities for the following reasons: Vessels will only be restricted from safety zones for a short duration of time; vessels may transit in portions of the affected waterway except for those areas covered by this rule; and vessels may enter or pass through the affected waterway with the permission of the COTP or the COTP's representative. The Coast Guard has promulgated safety zones or special local regulations in accordance with 33 CFR parts 100 and 165 for all event areas in the past and has not received notice of any negative impact caused by any of the safety zones or special local regulations; and notifications will be made to the local maritime community through the Local Notice to Mariners well in advance of the events. If the event does not have a date listed, then exact dates and times of the enforcement period will be announced through a Notice of Enforcement in the Federal Register. No new or additional restrictions would be imposed on vessel traffic.

Assistance for Small Entities

Under section 213(a) of the Small Business Regulatory Enforcement Fairness Act of 1996 (Pub. L. 104-121), in the NPRM we offered to assist small entities in understanding this rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a state, local, or tribal government, in the aggregate, or by the private sector of $100,000,000 (adjusted for inflation) or more in any one year. Though this rule does not result in such expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. Any comments made in response to the previously published Notice of Proposed Rulemaking for this action were also considered in arriving at this conclusion. This rule is categorically excluded, under figure 2-1, paragraphs (34)(g) and (34)(h) of the Instruction since it involves establishment of safety zones for annually recurring marine events, including marine related fireworks events and special local regulations for regattas. An environmental analysis checklist and a categorical exclusion determination are available in the docket where indicated under ADDRESSES.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and 165 as follows:

PART 100—SAFETY OF LIFE ON NAVIGABLE WATERS

1. The authority citation for part 100 reads as follows:

Authority: 33 U.S.C. 1233.

2. Remove §§ 100.112 and 100.113.

§ 100.114 [Amended]

3. Remove the following entries in the “Fireworks Display Table” in § 100.114 (along with the associated “Massachusetts” and “Rhode Island” titles and the headings for August, September, October and December) as follows: 7.16, 7.18, 7.19, 7.20, 7.21, 7.22, 7.24, 7.25, 7.26, 7.27, 7.28, 7.38, 8.2, 8.5, 9.4, 10.1, 12.2, 12.3, and 12.5.

4. Remove § 100.116.

PART 165—REGULATED NAVIGATION AREAS AND LIMITED ACCESS AREAS

5. The authority citation for part 165 reads as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1.

6. Add a new § 165.173 to read as follows:

§ 165.173 Safety Zones for annually recurring marine events held in Coast Guard Southeastern New England Captain of the Port Zone.

(a) Regulations. (1) The general regulations contained in 33 CFR 165.23 as well as the following regulations apply to the fireworks displays and swim events listed in the Table to § 165.173. These regulations may be enforced for the duration of each event.

(2) Notifications will be made to the local maritime community through the Local Notice to Mariners well in advance of the events. If the event does not have a date listed, then exact dates and times of the enforcement period will be announced through a Notice of Enforcement in the Federal Register.

Note to paragraph (a): Although listed in the Code of Federal Regulations, sponsors of events listed in the Table shall submit an application each year in accordance with 33 CFR 100.15.

(b) Definitions. The following definitions apply to this section:

(1) Designated Representative. A “designated representative” is any Coast Guard commissioned, warrant or petty officer of the U.S. Coast Guard who has been designated by the Captain of the Port, Southeastern New England (COTP), to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP.

(3) Spectators. All persons and vessels not registered with the event sponsor as participants or official patrol vessels.

(c) The Coast Guard may patrol each event area under the direction of a designated Coast Guard Patrol Commander. The Patrol Commander may be contacted on Channel 16 VHF-FM (156.8 MHz) by the call sign “PATCOM.” The “official patrol vessels” may consist of any Coast Guard, Coast Guard Auxiliary, state, or local law enforcement vessels assigned or approved by the Captain of the Port, Southeastern New England.

(d) Vessels may not transit the regulated areas without Patrol Commander approval. Vessels permitted to transit must operate at a no wake speed, in a manner which will not endanger participants or other crafts in the event.

(e) Spectators or other vessels shall not anchor, block, loiter, or impede the movement of event participants or official patrol vessels in the regulated areas during the effective dates and times, or dates and times as modified through a Notice of Enforcement published in the Federal Register, unless authorized by an official patrol vessel.

(f) The Patrol Commander may control the movement of all vessels in the regulated area. When hailed or signaled by an official patrol vessel, a vessel shall come to an immediate stop and comply with the lawful directions issued. Failure to comply with a lawful direction may result in expulsion from the area, citation for failure to comply, or both.

(g) The Patrol Commander may delay or terminate any event in this subpart at any time to ensure safety. Such action may be justified as a result of weather, traffic density, spectator operation or participant behavior.

(h) For all fireworks displays listed below, the regulated area is that area of navigable waters within the specified radius of the launch platform or launch site for each fireworks display, unless modified later in a Notice of Enforcement published in the Federal Register.

Table to § 165.173
1.0 365 DAY JANUARY-DECEMBER
1.1 Provincetown Fireworks | • Event Type: Fireworks Display.
| • Date: Enforced on any day during the duration of the event as specified by a Notice of Enforcement published in the Federal Register.
| • Time: Approximately 5:00 p.m. to 11:59 p.m.
| • Location: From a barge in the vicinity of the Provincetown Harbor, Provincetown, MA.
| • Position: Within 500 yards of 41°28′44″ N, 070°10′83″ W (NAD 83).
| • Safety Zone Dimension: Approximately 300 yard radius circle around the fireworks barge.
1.2 Providence Fireworks | • Event Type: Fireworks Display.
| • Date: Enforced on any day during the duration of the event as specified by a Notice of Enforcement published in the Federal Register.
| • Time: Approximately 5:00 p.m. to 11:59 p.m.
| • Location: From a barge in the vicinity of the Hurricane Barrier in the Providence River, Providence, RI.
| • Position: Within 500 yards of 41°48′50″ N, 071°23′43″ W (NAD 83).
| • Safety Zone Dimension: Approximately 300 yard radius circle around the fireworks barge.
1.3 Fall River Fireworks | • Event Type: Fireworks Display.
| • Date: Enforced on any day during the duration of the event as specified by a Notice of Enforcement published in the Federal Register.
| • Time: Approximately 5:00 p.m. to 11:59 p.m.
| • Location: From a barge in the vicinity of Battleship Cove, Fall River, MA.
| • Position: Within 500 yards of 41°42′37″ N, 071°09′53″ W (NAD 83).
| • Safety Zone Dimension: Approximately 200 yard radius circle around the fireworks barge.
6.0 JUNE
6.1 Oak Bluffs Summer Solstice | • Event Type: Fireworks Display.
| • Date: One night on the 3rd or 4th weekend of June.
| • Time: Approximately 8:00 p.m. to 11:59 p.m.
| • Location: From a barge in the vicinity of Town Beach, Oak Bluffs, MA.
| • Position: Within 500 yards of 41°27′19″ N, 070°33′08″ W (NAD 83).
| • Safety Zone Dimension: Approximately 300 yard radius circle around the fireworks barge.
6.2 RI National Guard Air Show | • Event Type: Air Show.
| • Date: One weekend (Friday, Saturday, and Sunday) in June or July.
| • Time: Approximately 9:00 a.m. to 7:00 p.m.
| • Location: (1) All waters over the West Passage of Narragansett Bay, in the vicinity of the Quonset State Airport, North Kingston, RI which are within a 4000-yard radius arc extending from position 41°35′44″ N, 071°24′14″ W (NAD 83); and (2) All waters over the West Passage of Narragansett Bay, in the vicinity of Narragansett Pier, Narragansett, RI, which are within a 2000-yard radius arc extending from position 41°26′17″ N, 071°27′02″ W (NAD 83) (Friday only).
| • Safety Zone Dimension: Approximately 1000 yards long by 1000 yards wide.
7.0 JULY
7.1 Marion 4th of July Fireworks | • Event Type: Fireworks Display.
| • Date: One night between July 1st and July 10th, as announced in the Local Notice to Mariners.
| • Time: Approximately 8:00 p.m. to 11:59 p.m.
| • Location: From a barge in the vicinity of Outer Sipican Harbor, Marion, MA.
| • Position: Within 500 yards of 41°42′17″ N, 070°45′08″ W (NAD 83).
| • Safety Zone Dimension: Approximately 300 yard radius circle around the fireworks barge.
7.2 Oyster Harbors July 4th Festival | • Event Type: Fireworks Display.
| • Date: One night between July 1st and July 10th, as announced in the Local Notice to Mariners.
| • Time: Approximately 8:00 p.m. to 11:59 p.m.
| • Location: From a barge in the vicinity of Tim's Cove, North Bay, Osterville, MA. • Position: Within 500 yards of 41°37′29″ N, 070°25′12″ W (NAD 83).
| • Safety Zone Dimension: Approximately 200 yard radius circle around the fireworks barge.
7.3 North Kingstown Fireworks Display. | • Event Type: Fireworks Display.
| • Date: One night between July 1st and July 10th, as announced in the Local Notice to Mariners.
| • Time: Approximately 8:00 p.m. to 11:59 p.m.
| • Location: From a barge in the vicinity of Town Beach, North Kingston, RI.
| • Position: Within 500 yards of 41°33′59″ N, 071°26′23″ W (NAD 83).
| • Safety Zone Dimension: Approximately 200 yard radius circle around the fireworks barge.
7.4 Falmouth Fireworks | • Event Type: Fireworks Display.
| • Date: One night between July 1st and July 10th, as announced in the Local Notice to Mariners.
| • Time: Approximately 8:00 p.m. to 11:59 p.m.
| • Location: From a barge in the vicinity of Falmouth Beach, Falmouth, MA.
| • Position: Within 500 yards of 41°32′27″ N, 070°35′26″ W (NAD 83).
| • Safety Zone Dimension: Approximately 300 yard radius circle around the fireworks barge.
7.5 Town of Nantucket Fireworks | • Event Type: Fireworks Display.
| • Date: One night between July 1st and July 10th, as announced in the Local Notice to Mariners.
| • Time: Approximately 8:00 p.m. to 11:59 p.m.
| • Location: From a barge in the vicinity of Jetties Beach, Nantucket Sound, MA.
| • Position: Within 500 yards of 41°19′00″ N, 070°06′30″ W (NAD 83).
| • Safety Zone Dimension: Approximately 200 yard radius circle around the fireworks barge.
7.6 City of Newport 4th of July Fireworks | • Event Type: Fireworks Display.
| • Date: One night between July 1st and July 10th, as announced in the Local Notice to Mariners.
| • Time: Approximately 8:00 p.m. to 11:59 p.m.
| • Location: From the shore in the vicinity of Fort Adams, Newport, RI.
| • Position: Within 500 yards of 41°28′49″ N, 071°20′12″ W (NAD 83).
| • Safety Zone Dimension: Approximately 350 yard radius circle around the launch site.
7.7 Town of Barnstable/Hyannis July 4th Fireworks | • Event Type: Fireworks Display.
| • Date: One night between July 1st and July 10th, as announced in the Local Notice to Mariners.
| • Time: Approximately 8:00 p.m. to 11:59 p.m.
| • Location: From a barge in the vicinity of Lewis Bay, Hyannis, MA.
| • Position: Within 500 yards of 41°38′20″ N, 070°15′08″ W (NAD 83).
| • Safety Zone Dimension: Approximately 350 yard radius circle around the fireworks barge.
7.8 Edgartown 4th of July Fireworks Celebration | • Event Type: Fireworks Display.
| • Date: One night between July 1st and July 10th, as announced in the Local Notice to Mariners.
| • Time: Approximately 8:00 p.m. to 11:59 p.m.
| • Location: From a barge in the vicinity of Edgartown Outer Harbor, Edgartown, MA.
| • Position: Within 500 yards of 41°22′39″ N, 070°30′14″ W (NAD 83).
| • Safety Zone Dimension: Approximately 300 yard radius circle around the fireworks barge.
7.9 City of New Bedford Fireworks Display | • Event Type: Fireworks Display.
| • Date: One night between July 1st and July 10th, as announced in the Local Notice to Mariners.
| • Time: Approximately 8:00 p.m. to 11:59 p.m.
| • Location: From a barge in the vicinity of New Bedford Harbor, New Bedford, MA.
| • Position: Within 500 yards of 41°37′55″ N, 070°54′44″ W (NAD 83).
| • Safety Zone Dimension: Approximately 250 yard radius circle around the fireworks barge.
7.10 Onset Fireworks | • Event Type: Fireworks Display.
| • Date: One night between July 1st and July 10th, as announced in the Local Notice to Mariners.
| • Time: Approximately 8:00 p.m. to 11:59 p.m.
| • Location: On the shore, in the vicinity of Shellpoint Beach, Onset, MA.
| • Position: Within 500 yards of 41°44′13″ N, 070°39′51″ W (NAD 83).
| • Safety Zone Dimension: Approximately 300 yard radius circle around the fireworks launch site.
7.11 Bristol 4th of July Fireworks | • Event Type: Fireworks Display.
| • Date: One night between July 1st and July 10th, as announced in the Local Notice to Mariners.
| • Time: Approximately 8:00 p.m. to 11:59 p.m.
| • Location: In the vicinity of Northern portion of the Bristol Harbor, Bristol, RI, on the section of Poppasquash Rd separating the harbor and Mill Pond.
| • Position: Within 500 yards of 41°40′53.4″ N, 071°17′00″ W (NAD 83).
| • Safety Zone Dimension: Approximately 300 yard radius circle around the fireworks launch site.
7.12 Swim Buzzards Bay | • Event Type: Swim Event.
| • Date: One Saturday or Sunday in July or August, as announced in the Local Notice to Mariners.
| • Time: Start times will vary from 6:00 a.m. to 11:59 a.m., and last approximately two hours until the last swimmer is ashore. Start time will be announced in advance in the Local Notice to Mariners.
| • Location: The regulated area includes all waters in the vicinity of the Outer New Bedford Harbor, within 500 yards along a centerline with an approximate start point of 41°36′35″ N, 070°54′18″ W (NAD 83) and an approximate end point of 41°37′26″ N, 070°53′48″ W (NAD 83) at Davy's Locker Restaurant in New Bedford, MA, to Fort Phoenix Beach in Fairhaven, MA.
| • Safety Zone Dimension: 500 yards on either side of the centerline described above.
7.13 Save the Bay Swim | • Event Type: Swim Event.
| • Date: One Saturday or Sunday in July or August, as announced in the Local Notice to Mariners.
| • Time: Start time will vary from 6:00 a.m. to 11:59 a.m. and last for approximately four hours, until the last swimmer is ashore. Start time will be announced in advance in the Local Notice to Mariners.
| • Location: The regulated area includes all waters in the vicinity of the Newport/Pell Bridge, East Passage of Narragansett Bay, along a centerline with an approximate start point of 41°30′24″ N, 071°19′49″ W (NAD 83) and an approximate end point of 41°30′39″ N, 071°21′50″ W (NAD 83), i.e., a line drawn from the Officers' Club, Coaster's Harbor Island, Naval Station Newport, to Potter Cove, Jamestown.
| • Safety Zone Dimension: 500 yards on either side of the centerline described above.
8.0 AUGUST
8.1 Boston Pops Nantucket | • Event Type: Fireworks Display.
| • Date: One night in August as announced in the Local Notice to Mariners.
| • Time: Approximately 8:00 p.m. to 11:59 p.m.
| • Location: On the shore, in the vicinity of Jetties Beach, Nantucket, MA.
| • Position: Within 500 yards of 41°17′43″ N, 070°06′10″ W (NAD 83).
| • Safety Zone Dimension: Approximately 400 yard radius circle around the fireworks barge.
8.2 Oak Bluffs Fireworks | • Event Type: Fireworks Display.
| • Date: One night in August.
| • Time: Approximately 8:00 p.m. to 11:59 p.m.
| • Location: From a barge in the vicinity of Oak Bluffs Harbor, Oak Bluffs, MA.
| • Position: Within 500 yards of 41°27′27″ N, 070°33′17″ W (NAD 83).
| • Safety Zone Dimension: Approximately 350 yard radius circle around the fireworks barge.
8.3 Newport Salute to Summer Fireworks | • Event Type: Fireworks Display.
| • Date: One night during the last two weekends in August or 1st weekend in September.
| • Time: Approximately 8:00 p.m. to 11:59 p.m.
| • Location: From a barge in the vicinity of Naval Station Newport, Newport, RI.
| • Position: Within 500 yards of 41°30′15″ N, 071°19′50″ W (NAD 83).
| • Safety Zone Dimension: Approximately 400 yard radius circle around the fireworks barge.
9.0 SEPTEMBER
9.1 Provincetown Harbor Swim for Life | • Event Type: Swim Event.
| • Date: On a day in September as announced in the Local Notice to Mariners.
| • Time: Times will vary from 10:00 a.m. until the last swimmer is ashore, no later than 2:00 p.m.
| • Location: The regulated area includes all waters in the vicinity of the Provincetown Harbor along a centerline between the start point, the Long Point Lighthouse. approximate position 42°01′59″ N, 070°10′07″ W (NAD 83), and the end point, the Boatslip Resort, Provincetown, MA., approximate position 42°02′48″ N, 070°11′24″ W (NAD 83).
| • Safety Zone Dimension: 250 yards on either side of the centerline described above.
9.2 Spirit of Somerset Celebration | • Event Type: Fireworks Display.
| • Date: One night in September, as announced in the Local Notice to Mariners.
| • Time: Approximately 8:00 p.m. to 11:59 p.m.
| • Location: On the shore, in the vicinity of Mallard Point, Somerset, MA.
| • Position: Within 500 yards of 41°46′18″ N, 071°07′14″ W (NAD 83).
| • Safety Zone Dimension: Approximately 200 yard radius circle around the fireworks launch site.
10.0 OCTOBER
10.1 Yarmouth Seaside Festival Fireworks | • Event Type: Fireworks Display.
| • Date: One night in October, as announced in the Local Notice to Mariners.
| • Time: Approximately 7:00 p.m. to 11:59 p.m.
| • Location: On the shore, in the vicinity of Seagull Beach, West Yarmouth, MA.
| • Position: Within 500 yards of 41°38′06″ N, 070°13′13″ W (NAD 83).
| • Safety Zone Dimension: Approximately 300 yard radius circle around the fireworks launch site.

Dated: May 7, 2012.
V.B. Gifford, Jr.,
Captain, U.S. Coast Guard, Captain of the Port Southeastern New England.

[FR Doc. 2012-12316 Filed 5-21-12; 8:45 am]

BILLING CODE 9110-04-P